SMALL BUSINESS ADMINISTRATION

[Disaster Declaration #15230 and #15231; Arizona Disaster Number AZ-00050]

Administrative Declaration Amendment of Disaster for the State of Arizona

AGENCY: U.S. Small Business Administration.

ACTION: Amendment 1.

SUMMARY: This is an amendment of the Administrative declaration of a disaster for the State of Arizona dated 08/03/2017.

Incident: Post-fire Flooding from Monsoon Storms.

Incident Period: 07/19/2017 through 09/30/2017.

DATES: Issued on 01/11/2018.

Physical Loan Application Deadline Date: 10/02/2017.

Economic Injury (EIDL) Loan Application Deadline Date: 05/03/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of an Administrative declaration for the State of ARIZONA, dated 08/03/2017, is hereby amended to establish the incident closing date as 09/30/2017.

All other information in the original declaration remains unchanged.

(Catalog of Federal Domestic Assistance Number 59008)

Dated: January 11, 2018.
Linda E. McMahon,
Administrator.

[FR Doc. 2018-01163 Filed 1-22-18; 8:45 am]

BILLING CODE 8025-01-P